DEPARTMENT OF COMMERCE

Foreign-Trade Zones Board

[Docket 8-2003]

Foreign-Trade Zone 62—Brownsville, Texas; Application for Expansion

An application has been submitted to the Foreign-Trade Zones Board (the Board) by the Brownsville Navigation District, grantee of Foreign-Trade Zone 62, requesting authority to expand its zone to include an additional site in the Brownsville, Texas, area, within the Brownsville/Los Indios Customs port of entry. The application was submitted pursuant to the provisions of the Foreign-Trade Zones Act, as amended (19 U.S.C. 81a-81u), and the regulations of the Board (15 CFR Part 400). It was formally filed on January 24, 2003.

FTZ 62 was approved on October 20, 1980 (Board Order 166, 45 FR 71638, 10/29/80) and expanded on September 30, 1983 (Board Order 226, 48 FR 45814, 10/7/83) and on October 24, 1989 (Board Order 444, 54 FR 46098, 11/1/89). The zone project currently consists of three sites (2,281 acres) in the Brownsville area: Site 1 (1,971 acres) within the 21,000-acre developable portion of the 42,000-acre Brownsville Navigation District (includes the 71-acre NAFTA Industrial Park, located at 6984 N. FM 511); Site 2 (3 parcels, 193 acres) within the Valley International Airport located on Rio Hondo Road, Harlingen: Parcel A (123 acres) within the Harlingen Industrial Airpark; and, Parcel B (55 acres) & Parcel C (15 acres) located on the west side of the airport; Site 3 (3 parcels, 117 acres) within the 3,000-acre Harlingen Industrial Park II, Harlingen: Parcel A (91 acres) located at FM 106 and FM 1595; and, Parcel B (7 acres) & Parcel C (18 acres) located at FM 106; and, a Temporary Site (8 acres) located at 1101 Joaquin Cavazos Road, within the FINSA Industrial Park, Los Indios (expires 4/1/03).

The applicant is now requesting authority to expand the general-purpose zone to include an additional site at the FINSA Industrial Park (Proposed Site 4—4 parcels, 758 acres) located at 1101 Joaquin Cavazos Road, Los Indios. The proposed site will also include the temporary site. The applicant is also requesting that 10 acres at Site 2-Parcel A (Harlingen Industrial Airpark) be restored to zone status. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below: ZZzx

1. Submissions via Express/Package Delivery Services: Foreign-Trade Zones Board, U.S. Department of Commerce, Franklin Court Building—Suite 4100W, 1099 14th Street, NW., Washington, DC 20005; or

2. Submissions via the U.S. Postal Service: Foreign-Trade Zones Board, U.S. Department of Commerce, FCB—Suite 4100W, 1401 Constitution Avenue, NW., Washington, DC 20230.

The closing period for their receipt is April 4, 2003. Rebuttal comments in response to material submitted during the foregoing period may be submitted during the subsequent 15-day period (to April 21, 2003).

A copy of the application and accompanying exhibits will be available for public inspection at the Office of the Foreign-Trade Zones Board's Executive Secretary at the first address listed above, and at the Port of Brownsville, Brownsville Navigation District, 1000 Foust Road, Brownsville, TX 78521.

Dated: January 24, 2003.
Dennis Puccinelli,
Executive Secretary.

[FR Doc. 03-2440 Filed 1-31-03; 8:45 am]

BILLING CODE 3510-DS-P